DEPARTMENT OF VETERANS AFFAIRS

Advisory Committee on the Readjustment of Veterans, Notice of Meeting

The Department of Veterans Affairs (VA) gives notice under the Federal Advisory Committee Act that a meeting of the Advisory Committee on the Readjustment of Veterans will be held February 6, 7, and 8, 2018. All meeting sessions will be conducted at the Department of Veterans Affairs National Headquarters, located at 810 Vermont Avenue NW, Conference Room 530, Washington, DC, 20420. The meetings will begin at 8:00 a.m. and adjourn at 4:30 p.m. The meetings are open to the public.

The purpose of the Committee is to review the post-war readjustment needs of combat-theater Veterans and to evaluate the availability, effectiveness and coordination of VA programs available to meet Veterans' readjustment service needs.

The agenda for Tuesday February 6 will feature meetings with VA and the Veterans Health Administration (VHA) senior leadership to review the general values, strategic priorities and current perspectives on Veterans' physical health and psychosocial welfare. The day's agenda will also include briefings from the Readjustment Counseling Service (RCS) Chief Officer regarding the current activities of the RCS Vet Centers to include the full scope of outreach and readjustment counseling being provided to combat-theater Veterans, Service members and their families. The briefing will also provide a status report regarding the RCS organizational transition to a single point of service within the general organizational transformation of VHA.

On Wednesday February 7, the Committee will focus on VA mental health services and best practices for coordinating VA mental health services with RCS readjustment counseling services to better serve the combat-theater Veteran population. To this end Committee members will receive briefings from VA's mental health leadership on the types and distribution of psychiatric disorders currently being presented by Operation Iraqi Freedom/Operation Enduring Freedoms Veterans and the various treatment regimens provided for their care inclusive of psychotherapy and psychopharmacology. VA Mental Health and RCS leadership will additionally present on the collaborative activities currently underway between RCS and the Office of Mental Health and Suicide Prevention to achieve life-saving outcomes for at risk combat-theater Veterans and Service members.

On Thursday February 8, the Committee will engage in strategic round table discussions with various other VHA program officials to review the objectives and anticipated outcomes for developing a “Veterans Engagement Subcommittee”. This project is being initiated through collaborative partnership between RCS and the National Center for Post-Traumatic Stress Disorder (NC/PTSD) to strengthen the collaborative ties between the RCS and the NC/PTSD, to improve VA services and products through Veteran consumer feedback and to provide greater public awareness of VA and its achievements through quality services to Veterans and families.

In addition, the agenda will include time for Committee strategic planning focused on its annual operations priorities for 2018 and the strategic perspectives for developing its 19th annual report to Congress.

No time will be allocated at this meeting for receiving oral presentations from the public. However, members of the public may direct written questions or submit prepared statements for review by the Committee before the meeting to Mr. Charles M. Flora, M.S.W., Designated Federal Officer, Readjustment Counseling Service, Department of Veterans Affairs, 810 Vermont Avenue NW, Washington, DC 20420. Because the meeting will be in a Government building, please provide valid photo identification for check-in. Please allow 15 minutes before the meeting for the check-in process. If you plan to attend or have questions concerning the meeting, contact Mr. Flora at (202) 461-6525 or via email at charles.flora@va.gov.

Dated: December 15, 2017.
Jelessa M. Burney,
Federal Advisory Committee Management Office.

[FR Doc. 2017-27378 Filed 12-19-17; 8:45 am]

BILLING CODE P